INTERNATIONAL TRADE COMMISSION

[Investigation Nos. 701-TA-388-391 and 731-TA-816-821 (Review)]

Cut-to-Length Carbon-Quality Steel Plate From France, India, Indonesia, Italy, Japan, and Korea

Determination

On the basis of the record ¹ developed in the subject five-year reviews, the United States International Trade Commission (Commission) determines, pursuant to section 751(c) of the Tariff Act of 1930 (19 U.S.C. 1675(c)) (the Act), that revocation of the antidumping duty and countervailing duty orders on cut-to-length carbon quality steel plate from India, Indonesia, Italy, and Korea, and the antidumping duty order on cut-to-length carbon quality steel plate from Japan would be likely to lead to continuation or recurrence of material injury to an industry in the United States within a reasonably foreseeable time.² In addition, the Commission determines that revocation of the antidumping duty order on cut-to-length carbon-quality steel plate from France would not be likely to lead to continuation or recurrence of material injury to an industry in the United States within a reasonably foreseeable time.³

¹ The record is defined in sec. 207.2(f) of the Commission's Rules of Practice and Procedure (19 CFR 207.2(f)).

² Vice Chairman Deanna Tanner Okun and Commissioner Daniel R. Pearson dissenting.

³ Commissioner Charlotte R. Lane dissenting.

Background

The Commission instituted these reviews on January 3, 2005 (70 FR 110) and determined on April 8, 2005 that it would conduct full reviews (70 FR 20173, April 18, 2005). Notice of the scheduling of the Commission's reviews and of a public hearing to be held in connection therewith was given by posting copies of the notice in the Office of the Secretary, U.S. International Trade Commission, Washington, DC, and by publishing the notice in the Federal Register on May 13, 2005 (70 FR 25599). The hearing was held in Washington, DC, on September 27, 2005, and all persons who requested the opportunity were permitted to appear in person or by counsel.

The Commission transmitted its determination in these reviews to the Secretary of Commerce on November 21, 2005. The views of the Commission are contained in USITC Publication 3816 (November 2005), entitled Cut-to-Length Carbon-Quality Steel Plate From France, India, Indonesia, Italy, Japan, and Korea: Investigation Nos. 701-TA-388-391 and 731-TA-816-821 (Review).

By order of the Commission.
Issued: November 21, 2005.
Marilyn R. Abbott,
Secretary to the Commission.

[FR Doc. E5-6565 Filed 11-25-05; 8:45 am]

BILLING CODE 7020-02-P